DEPARTMENT OF TRANSPORTATION

Federal Motor Carrier Safety Administration

[Docket No. FMCSA-2012-0154, FMCSA-2014-0383; FMCSA-2014-0384;FMCSA-2017-0058; FMCSA-2018-0136; FMCSA-2018-0138; FMCSA-2020-0027; FMCSA-2021-0014; FMCSA-2022-0032; FMCSA-2022-0035; FMCSA-2023-0018; FMCSA-2023-0020]

Qualification of Drivers; Exemption Applications; Hearing

AGENCY: Federal Motor Carrier Safety Administration (FMCSA), Department of Transportation (DOT).

ACTION: Notice of final disposition.

SUMMARY: FMCSA announces its decision to renew exemptions for 18 individuals from the hearing requirement in the Federal Motor Carrier Safety Regulations (FMCSRs) for interstate commercial motor vehicle (CMV) drivers. The exemptions enable these hard of hearing and deaf individuals to continue to operate CMVs in interstate commerce.

DATES: Each group of renewed exemptions were applicable on the dates stated in the discussions below and will expire on the dates provided below.

FOR FURTHER INFORMATION CONTACT: Ms. Christine A. Hydock, Chief, Medical Programs Division, FMCSA, DOT, 1200 New Jersey Avenue SE, Washington, DC 20590-0001, (202) 366-4001, fmcsamedical@dot.gov. Office hours are 8:30 a.m. to 5 p.m. ET Monday through Friday, except Federal holidays. If you have questions regarding viewing or submitting material to the docket, contact Dockets Operations, (202) 366-9826.

SUPPLEMENTARY INFORMATION:

I. Public Participation

A. Viewing Comments

To view comments, go to www.regulations.gov. Insert the docket number (FMCSA-2012-0154, FMCSA-2014-0383, FMCSA-2014-0384, FMCSA-2017-0058, FMCSA-2018-0136, FMCSA-2018-0138, FMCSA-2020-0027, FMCSA-2021-0014, FMCSA-2022-0032, FMCSA-2022-0035, FMCSA-2023-0018, or FMCSA-2023-0020, as appropriate) in the keyword box and click “Search.” Next, sort the results by “Posted (Newer-Older),” choose the first notice listed, and click “Browse Comments.” If you do not have access to the internet, you may view the docket online by visiting Dockets Operations in room W58-213 of the DOT West Building, 1200 New Jersey Avenue SE, Washington, DC 20590-0001, between 9 a.m. and 5 p.m. ET Monday through Friday, except Federal holidays. To be sure someone is there to help you, please call (202) 366-9317 or (202) 366-9826 before visiting Dockets Operations.

B. Privacy Act

In accordance with 49 U.S.C. 31315(b)(6), DOT solicits comments from the public on the exemption requests. DOT posts these comments, including any personal information the commenter provides, to www.regulations.gov, as described in the system of records notice DOT/ALL-14 FDMS (Federal Docket Management System), which can be reviewed under the “Department Wide System of Records Notices” link at https://www.transportation.gov/individuals/privacy/privacy-act-system-records-notices. The comments are posted without edit and are searchable by the name of the submitter.

II. Legal Basis

FMCSA has authority under 49 U.S.C. 31136(e) and 31315(b) to grant exemptions from the FMCSRs. FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)). FMCSA grants medical exemptions from the FMCSRs for a 2-year period to align with the maximum duration of a driver's medical certification.

III. Background

On November 28, 2025, FMCSA published a notice announcing its decision to renew exemptions for 18 individuals from the hearing standard in 49 CFR 391.41(b)(11) to operate a CMV in interstate commerce and requested comments from the public (90 FR 54848). The public comment period ended on December 29, 2025, and no comments were received.

The Agency evaluated the eligibility and determined that renewing these applicants' exemptions would likely achieve a level of safety that is equivalent to, or greater than, the level that would be achieved by complying with 49 CFR 391.41(b)(11).

The physical qualification standard for drivers regarding hearing, found in 49 CFR 391.41(b)(11), states that a person is physically qualified to drive a CMV if that person first perceives a forced whispered voice in the better ear at not less than 5 feet with or without the use of a hearing aid or, if tested by use of an audiometric device, does not have an average hearing loss in the better ear greater than 40 decibels at 500 Hz, 1,000 Hz, and 2,000 Hz, with or without a hearing aid, when the audiometric device is calibrated to American National Standard (formerly ASA Standard) Z24.5—1951.

This standard was adopted in 1970 and was revised in 1971 to allow drivers to be qualified under this standard while wearing a hearing aid (35 FR 6458, 6463 (Apr. 22, 1970) and 36 FR 12857 (July 8, 1971)).

IV. Discussion of Comments

FMCSA received no comments in this proceeding.

V. Basis for Renewing Exemptions

In accordance with 49 U.S.C. 31136(e) and 31315(b), each of the 18 applicants have satisfied the renewal conditions for obtaining an exemption from the hearing requirement. The 18 drivers in this notice remain in good standing with the Agency. In addition, the Agency has reviewed each applicant's certified driving record from their State Driver's Licensing Agency (SDLA). The information obtained from each applicant's driving record provides the Agency with details regarding any moving violations or reported crash data, which demonstrates whether the driver has a safe driving history and is an indicator of future driving performance. If the driving record revealed a crash, FMCSA requested and reviewed the related police reports and other relevant documents, such as the citation and conviction information. These factors provide an adequate basis for predicting each driver's ability to continue to safely operate a CMV in interstate commerce. Accordingly, FMCSA concludes that extending the exemption for each of these drivers for a period of 2 years is likely to achieve a level of safety equivalent to that existing without the exemption.

VI. Terms and Conditions

The exemptions are extended subject to the following conditions: each driver (1) must report to FMCSA any crashes, as defined in 49 CFR 390.5T, within 7 days of the crash; (2) must report to FMCSA any citations and convictions for disqualifying offenses under 49 CFR parts 383 and 391, within 7 days of the citation and conviction; (3) must submit to FMCSA annual certified driving records from their SDLA; and (4) is prohibited from operating a motorcoach or bus with passengers in interstate commerce. The driver must also have a copy of the exemption when driving, for presentation to a duly authorized Federal, State, or local law enforcement official. In addition, the driver must meet all the applicable commercial driver's license testing requirements. Each exemption will be valid for 2 years unless rescinded earlier by FMCSA. The exemption will be rescinded if: (1) the person fails to comply with the terms and conditions of the exemption; (2) the exemption has resulted in a lower level of safety than was maintained before it was granted; or (3) continuation of the exemption would not be consistent with the goals and objectives of Title 49 chapter 313 or section 31136.

VII. Preemption

During the period the exemption is in effect, no State shall enforce any law or regulation that conflicts with this exemption with respect to a person operating under the exemption.

VIII. Conclusion

Based upon its evaluation of the 18 renewal exemption applications, FMCSA announces its decision to grant a 2-year exemption to each of the following drivers from the hearing requirement in 49 CFR 391.41(b)(11).

As of July 1, 2025, and in accordance with 49 U.S.C. 31136(e) and 31315(b), and FMCSA's policy of issuing medical exemptions for a 2-year period to correspond with the medical certificate, Tyjuan Davis (VA) has satisfied the renewal conditions for obtaining an exemption from the hearing requirement in the FMCSRs for interstate CMV drivers.

This driver was included in docket number FMCSA-2012-0154. The exemption was applicable as of July 1, 2025, and will expire on July 1, 2027.

As of July 30, 2025, and in accordance with 49 U.S.C. 31136(e) and 31315(b), and FMCSA's policy of issuing medical exemptions for a 2-year period to correspond with the medical certificate, the following 17 individuals have satisfied the renewal conditions for obtaining an exemption from the hearing requirement in the FMCSRs for interstate CMV drivers:

Selwyn Abrahamson (MN)

Amin Ali (OH)

Vicente Carreon (AZ)

Daniel Cohen (VT)

Elezar Contreras (IL)

Stephen Goen (GA)

Calvin Gousby (TX)

Michael Hoyt (OR)

Thomas Lipyanic (FL)

Michael Loschen (MI)

Ismail Muse (UT)

Jonas Pittman (NC)

Troy Rolland (TX)

Sandy Sloat (ND)

Jeffry Webber (OK)

Richard Whittaker (FL)

Rebecca Yeater (FL)

The drivers were included in docket numbers FMCSA-2014-0383, FMCSA-2014-0384, FMCSA-2017-0058, FMCSA-2018-0136, FMCSA-2018-0138, FMCSA-2020-0027, FMCSA-2021-0014, FMCSA-2022-0032, FMCSA-2022-0035, FMCSA-2023-0018, or FMCSA-2023-0020. Their exemptions were applicable as of July 30, 2025, and will expire on July 30, 2027.

In accordance with 49 U.S.C. 31315(b), each exemption will be valid for 2 years from the effective date unless revoked earlier by FMCSA. The exemption will be revoked if the following occurs: (1) the person fails to comply with the terms and conditions of the exemption; (2) the exemption has resulted in a lower level of safety than was maintained prior to being granted; or (3) continuation of the exemption would not be consistent with the goals and objectives of Title 49 chapter 313 or section 31136.

Larry W. Minor,
Associate Administrator for Policy.

[FR Doc. 2026-03357 Filed 2-19-26; 8:45 am]

BILLING CODE 4910-EX-P